INTERNATIONAL TRADE COMMISSION

[Investigation No. 337-TA-1365]

Certain Photovoltaic Connectors and Components Thereof; Institution of Investigation

AGENCY: U.S. International Trade Commission.

ACTION: Notice.

SUMMARY: Notice is hereby given that a complaint was filed with the U.S. International Trade Commission on May 4, 2023, under section 337 of the Tariff Act of 1930, as amended, on behalf of Shoals Technologies Group, LLC of Portland, Tennessee. A supplement to the complaint was filed on May 12, 2023. The complaint alleges violations of section 337 based upon the importation into the United States, the sale for importation, and the sale within the United States after importation of certain photovoltaic connectors and components thereof by reason of infringement of certain claims of U.S. Patent No. 10,553,739 (“ '739 Patent”) and U.S. Patent No. 10,992,254 (“ '254 Patent”). The complaint further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on June 5, 2023, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-13 and 15-18 of the '739 patent and claims 1-15 of the '254 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “photovoltaic wire harnesses or string harnesses that contain one or more inline fuses, in-line fuse kits, and assemblies for connecting solar panel arrays to an inverter, which assemblies are called lead assemblies or trunk buses, and which may also include one or more in-line fuses”;

(3) For the purpose of the investigation so instituted, the following are hereby named as parties upon which this notice of investigation shall be served:

(a) The complainant is:

Shoals Technologies Group, LLC, 1400 Shoals Way, Portland, Tennessee 37148

(b) The respondents are the following entities alleged to be in violation of section 337, and are the parties upon which the complaint is to be served:

Hikam America, Inc., 3521 Main St. #501, Chula Vista, CA 91911

Hikam Electrónica de México, S.A. de C.V., Carretera A San Luis No. Km. 10.5, Las Californias Industrial Park, Mexicali, Baja California 21394, Mexico.

Hikam Tecnologia de Sinaloa, International Road Guasave, Los Mochis No. Km. 2.5 Industrial Zone, Guasave, Sinaloa 81149, Mexico

Hewtech Philippines Corp., Lot C2-9, Carmelray Industrial Park II, Laguna, 4027 Philippines

Hewtech Philippines Electronics Corp., TECO Industrial Park, Ninoy Aquino Highway, Bundagul Mabalacat, Pampanga, 2010 Philippines

Hewtech (Shenzhen) Electronics Co., Ltd., Block 5 and Block 6, 172 Hengpailing Estate, Wu Tong Shan, Luo Hu District, Shenzhen, 518114 China

Voltage, LLC, 450 Raleigh Rd., Ste. 208, Chapel Hill, NC 27517

Ningbo Voltage Smart Production Co., No. 201 Bldg. 5 (14) Miaofengshan Rd., Beilun District, 57020 Ningbo, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 5, 2023.
Lisa Barton,
Secretary to the Commission.

[FR Doc. 2023-12314 Filed 6-8-23; 8:45 am]

BILLING CODE 7020-02-P